DEPARTMENT OF TRANSPORTATION

Federal Aviation Administration

14 CFR Part 71

[Docket No. FAA-2021-0912; Airspace Docket No. 21-ASO-6]

RIN 2120-AA66

Establishment and Amendment of Area Navigation (RNAV) Routes; Eastern United States

AGENCY: Federal Aviation Administration (FAA), DOT.

ACTION: Final rule.

SUMMARY: This action modifies five existing high altitude area navigation (RNAV) routes (Q-routes), and establishes one new Q-route, in support of the FAA's VHF Omnidirectional Range (VOR) Minimum Operational Network (MON) Program. This action improves the efficiency of the National Airspace System (NAS) by expanding the availability of RNAV routing and reducing the dependency on ground-based navigational systems.

DATES: Effective date 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0912, in the Federal Register (86 FR 67370; November 26, 2021), to amend six existing Q-routes, and establish one new Q-route, in the eastern United States to support the VOR MON program.

Interested parties were invited to participate in this rulemaking effort by submitting written comments on the proposal. No comments were received.

RNAV routes are published in paragraph 2006 of FAA Order JO 7400.11F dated August 10, 2021, and effective September 15, 2021, which is incorporated by reference in 14 CFR 71.1. The RNAV routes listed in this document would be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the Proposal

Q-81 is removed from this docket action for additional design work. It will be included in a separate rulemaking action at a later date.

The OVENP, FL, waypoint (WP) is removed from the description of Q-89. It was included in the route description in the NPRM in error.

In the description of Q-184, the location of the DOBIS WP is changed from “TX” to “LA.” The location was correct in the preamble of the NPRM, but was misstated in the regulatory text.

The Rule

The FAA is amending 14 CFR part 71 to amend five existing Q-routes, and establish one new Q-route, in the eastern United States to support the VOR MON program.

The Q-route amendments are as follows:

Q-19: Q-19 currently extends between the Nashville, TN, (BNA) VHF Omnidirectional Range/Tactical Air Navigation (VORTAC) navigation aid (NAVAID), and the Aberdeen, SD, (ABR) VOR/Distance Measuring Equipment (DME) NAVAID. Because the Nashville VORTAC is planned for decommissioning, this action removes the Nashville VORTAC from Q-19 and replaces it with the HITMN, TN, WP. The HITMN WP is located about 60 feet southeast of the Nashville VORTAC location. Additionally, this action extends Q-19 from the HITMN WP southeastward to the BULZI, FL, WP, (located east to the Tallahassee International Airport (TLH), FL). As amended, Q-19 extends between BULZI, FL and Aberdeen, SD.

Q-30: Q-30 currently extends between the Sidon, MS, (SQS) VORTAC and the Vulcan, AL, (VUZ) VORTAC. New WPs are inserted to replace the Sidon and Vulcan VORTACs. The IZAAC, MS, WP replaces the Sidon VORTAC, and the VLKNN, AL, WP, replaces the Vulcan, AL, (VUZ) VORTAC. The IZAAC WP is located 60 feet east of the Sidon position, and VLKNN WP is located 49 feet east of the Vulcan position. In addition, Q-30 is slightly realigned to the south of its current track to extend from the IZAAC WP to a new SKNRR, MS, WP (which replaces the Bigbee, MS, (IGB) VORTAC), and then proceed to the VLKNN, AL, WP. The realignment of Q-30 overlies the segment of jet route J-52 between the Sidon and Vulcan VORTACs. As amended, Q-30 extends from IZAAC, MS, to SKNRR, MS, to VLKNN, AL.

Q-79: Q-79 currently extends between the MCLAW, FL, WP and the Atlanta, GA, (ATL) VORTAC. This action amends Q-79 by replacing the Atlanta VORTAC with the THRSR, GA, WP, which is located 60 feet north of the Atlanta VORTAC position. The YUESS, GA, WP is removed from the route and replaced by the ZPLEN, GA, WP. Q-79 is also be extended north from the THRSR WP to the Louisville, KY, (IIU) VORTAC. As amended, Q-79 extends between the MCLAW, FL, WP, and the Louisville, KY, VORTAC.

Q-89: Q-89 currently extends between the MANLE, FL, WP, and the Atlanta, GA, (ATL) VORTAC. The FAA removing the segment between the YANTI, GA, WP, and the Atlanta VORTAC. Instead, the route extends from the YANTI WP to the new HESPI, GA, WP, (located 30 nautical miles (NM) southeast of the Atlanta VORTAC). From that point Q-89 extends northward to the new CULTO, GA, WP, (approximately 20 NM northeast of the Atlanta VORTAC), and then northward to the SMTTH, TN, WP, (located west of the Volunteer, TN, VORTAC). As amended, Q-89 extends between the MANLE, FL, WP, and the SMTTH, TN, WP.

Q-118: Q-118 currently extends between the Marion, IN, (MZZ) VOR/DME and the PEAKY, FL, WP. This action removes the Marion VOR/DME and the Atlanta VORTAC from the route description and replaces them with WPs. The Marion VOR/DME is replaced by the BONNT, IN, WP (located 121 feet north of the Marion VOR/DME). The Atlanta VORTAC is replaced by the THRSR, GA, WP, (located 60 feet north of the Atlanta VORTAC). As amended, Q-118 extends between the BONNT, IN, WP, and the PEAKY, FL, WP.

Q-184: Q-184 is a new route that extends between the Ranger, TX, (FUZ) VORTAC, and the ARNNY, AL, WP (approximately 30 NM west of the Montgomery, AL, (MGM) VORTAC). Q-184 overlies those portions of jet route J-4 between the Ranger VORTAC and the Meridian, MS, (MEI), VORTAC, at which point Q-184 proceeds east to the ZRNNY, AL, WP. In support of efforts to reduce the dependency on ground-based navigation, new WPs are used in the Q-184 route description as follows: The MERDN, MS, WP, replaces the Meridian, MS, (MEI) VORTAC; the DOBIS, LA, WP, replaces the Belcher, LA, (EIC) VORTAC; and the SARKK, MS, WP, replaces the Magnolia, MS, (MHZ) VORTAC.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying five existing RNAV routes (Q-routes), and establishing one new Q-route, in support of efforts to transition the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2006 United States Area Navigation Routes.

* * * * *

Q-19 BULZI, FL to Aberdeen, SD (ABR) [Amended]
BULZI, FL | WP | (Lat. 30°22′24.93″ N, long. 084°04′34.47″ W)
WYATT, GA | Fix | (Lat. 31°19′22.44″ N, long. 084°37′30.40″ W)
GOONS, GA | Fix | (Lat. 31°52′01.47″ N, long. 084°48′21.14″ W)
LAYIN, AL | WP | (Lat. 33°35′38.39″ N, long. 085°32′50.84″ W)
TOJXE, AL | WP | (Lat. 34°39′40.18″ N, long. 086°01′49.42″ W)
HITMN, TN | WP | (Lat. 36°08′12.47″ N, long. 086°41′05.25″ W)
PLESS, IL | Fix | (Lat. 37°48′34.48″ N, long. 088°57′47.48″ W)
St Louis, MO (STL) | VORTAC | (Lat. 38°51′38.48″ N, long. 090°28′56.52″ W)
Des Moines, IA (DSM) | VORTAC | (Lat. 41°26′15.45″ N, long. 093°38′54.81″ W)
Sioux Falls, SD (FSD) | VORTAC | (Lat. 43°38′58.14″ N, long. 096°46′52.02″ W)
Aberdeen, SD (ABR) | VOR/DME | (Lat. 45°25′02.48″ N, long. 098°22′07.39″ W)
* * * * * * *
Q-30 IZAAC, MS to VLKNN, AL [Amended]
IZAAC, MS | WP | (Lat. 33°27′49.87″ N, long. 090°16′37.75″ W)
SKNRR, MS | WP | (Lat. 33°29′07.75″ N, long. 088°30′49.63″ W)
VLKNN, AL | WP | (Lat. 33°40′12.47″ N, long. 086°53′58.83″ W)
* * * * * * *
Q-79 MCLAW, FL to Louisville, KY (IIU) [Amended]
MCLAW, FL | WP | (Lat. 24°33′49.00″ N, long. 081°01′00.00″ W)
VAULT, FL | WP | (Lat. 24°45′54.75″ N, long. 081°00′33.72″ W)
FEMID, FL | WP | (Lat. 26°06′29.59″ N, long. 081°27′23.07″ W)
WULFF, FL | WP | (Lat. 27°04′03.14″ N, long. 081°58′44.99″ W)
MOLIE, FL | WP | (Lat. 28°01′55.53″ N, long. 082°18′25.55″ W)
DOFFY, FL | WP | (Lat. 29°15′22.73″ N, long. 082°31′38.10″ W)
EVANZ, FL | WP | (Lat. 29°54′12.11″ N, long. 082°52′03.81″ W)
IISLY, GA | WP | (Lat. 30°42′37.70″ N, long. 083°17′57.72″ W)
ZPLEN, GA | WP | (Lat. 31°41′28.42″ N, long. 083°40′21.06″ W)
THRSR, GA | WP | (Lat. 33°37′45.26″ N, long. 084°26′06.36″ W)
KAILL, GA | WP | (Lat. 34°01′47.21″ N, long. 084°31′24.18″ W)
WUDEE, GA | Fix | (Lat. 34°34′43.52″ N, long. 084°39′58.83″ W)
RESPE, TN | Fix | (Lat. 35°35′30.56″ N, long. 084°55′12.31″ W)
SWAPP, TN | Fix | (Lat. 36°36′49.78″ N, long. 085°10′56.04″ W)
Louisville, KY (IIU) | VORTAC | (Lat. 38°06′12.47″ N, long. 085°34′38.77″ W)
* * * * * * *
Q-89 MANLE, FL to SMTTH, TN [Amended]
MANLE, FL | WP | (Lat. 28°42′26.16″ N, long. 080°24′23.71″ W)
WAKUP, FL | WP | (Lat. 28°51′47.62″ N, long. 080°40′26.97″ W)
PRMUS, FL | WP | (Lat. 29°49′05.67″ N, long. 081°07′20.74″ W)
SHRKS, FL | WP | (Lat. 30°37′23.23″ N, long. 081°45′59.13″ W)
YANTI, GA | WP | (Lat. 31°47′22.38″ N, long. 082°51′32.65″ W)
HESPI, GA | WP | (Lat. 33°14′21.16″ N, long. 084°05′38.77″ W)
CULTO, GA | WP | (Lat. 33°59′10.52″ N, long. 084°17′39.60″ W)
SMTTH, TN | WP | (Lat. 35°54′41.57″ N, long. 084°00′19.74″ W)
* * * * * * *
Q-118 BONNT, IN to PEAKY, FL [Amended]
BONNT, IN | WP | (Lat. 40°29′37.14″ N, long. 085°40′45.75″ W)
HEVAN, IN | WP | (Lat. 39°21′08.86″ N, long. 085°07′46.70″ W)
ROYYZ, IN | WP | (Lat. 38°56′28.93″ N, long. 084°56′10.19″ W)
VOSTK, KY | WP | (Lat. 38°28′15.86″ N, long. 084°43′03.58″ W)
HELUB, KY | WP | (Lat. 37°42′54.84″ N, long. 084°44′28.31″ W)
JEDER, KY | WP | (Lat. 37°19′30.54″ N, long. 084°45′14.17″ W)
GLAZR, TN | WP | (Lat. 36°25′20.78″ N, long. 084°46′49.29″ W)
KAILL, GA | WP | (Lat. 34°01′47.21″ N, long. 084°31′24.18″ W)
THRSR, GA | WP | (Lat. 33°37′45.26″ N, long. 084°26′06.36″ W)
JOHNN, GA | WP | (Lat. 31°31′22.94″ N, long. 083°57′26.55″ W)
JAMIZ, FL | WP | (Lat. 30°13′46.91″ N, long. 083°19′27.78″ W)
BRUTS, FL | WP | (Lat. 29°30′58.00″ N, long. 082°58′57.00″ W)
JINOS, FL | WP | (Lat. 28°28′46.00″ N, long. 082°08′52.00″ W)
KPASA, FL | WP | (Lat. 28°10′34.00″ N, long. 081°54′27.00″ W)
SHEEK, FL | WP | (Lat. 27°35′15.40″ N, long. 081°46′27.82″ W)
CHRRI, FL | WP | (Lat. 27°03′00.70″ N, long. 081°39′14.81″ W)
FEMID, FL | WP | (Lat. 26°06′29.59″ N, long. 081°27′23.07″ W)
PEAKY, FL | WP | (Lat. 24°35′23.72″ N, long. 081°08′53.91″ W)
* * * * * * *
Q-184 Ranger, TX (FUZ) to ARNNY, AL [New]
Ranger, TX (FUZ) | VORTAC | (Lat. 32°53′22.02″ N, long. 097°10′45.93″ W)
DOBIS, LA | WP | (Lat. 32°46′16.86″ N, long. 093°48′35.05″ W)
BERKE, LA | Fix | (Lat. 32°45′18.20″ N, long. 093°35′50.03″ W)
MIXIE, LA | Fix | (Lat. 32°43′19.40″ N, long. 093°10′51.57″ W)
STAGE, LA | Fix | (Lat. 32°42′42.76″ N, long. 093°03′21.82″ W)
KAMEN, LA | Fix | (Lat. 32°40′10.15″ N, long. 092°33′07.47″ W)
SARKK, MS | WP | (Lat. 32°26′02.24″ N, long. 090°05′58.67″ W)
MERDN, MS | WP | (Lat. 32°22′42.36″ N, long. 088°48′14.66″ W)
KWANE, MS | WP | (Lat. 32°22′00.47″ N, long. 088°27′29.43″ W)
ARNNY, AL | WP | (Lat. 32°20′40.60″ N, long. 086°59′28.57″ W)

* * * * *

Issued in Washington, DC, on March 10, 2022.
Scott M. Rosenbloom,
Manager, Airspace Rules and Regulations.

[FR Doc. 2022-05482 Filed 3-18-22; 8:45 am]

BILLING CODE 4910-13-P